DEPARTMENT OF COMMERCE

Foreign-Trade Zones Board

[B-003-2017]

Foreign-Trade Zone (FTZ) 122—Corpus Christi, Texas, Notification of Proposed Production Activity, Superior Weighting Products LLC, (Barite/Calcium Carbonate/Bentonite), Corpus Christi, Texas

The Port of Corpus Christi, grantee of FTZ 122, submitted a notification of proposed production activity to the FTZ Board on behalf of Superior Weighting Products LLC (Superior Weighting), located in Corpus Christi, Texas. The notification conforming to the requirements of the regulations of the FTZ Board (15 CFR 400.22) was received on January 3, 2017.

A separate application for subzone designation at the Superior Weighting facility was submitted and will be processed under Section 400.38 of the Board's regulations. The facility will be used to process raw barite into ground barite, and to further process calcium carbonate (limestone) and bentonite. Pursuant to 15 CFR 400.14(b), FTZ activity would be limited to the specific foreign-status materials and components and specific finished products described in the submitted notification (as described below) and subsequently authorized by the FTZ Board.

Production under FTZ procedures could exempt Superior Weighting from customs duty payments on the foreign-status components used in export production. On its domestic sales, Superior Weighting would be able to choose the duty rate during customs entry procedures that applies to natural barium sulfate (barite) ground, processed calcium carbonate (limestone) and processed bentonite (duty rates 0.0%) for the foreign-status inputs noted below. Customs duties also could possibly be deferred or reduced on foreign-status production equipment.

The components and materials sourced from abroad include: natural barium sulfate (raw barite) not ground (duty rate ranging from $0.00 to $1.25/t-CN); calcium carbonate (limestone) (duty rate 0.0%); bentonite (duty rate 0.0%).

Public comment is invited from interested parties. Submissions shall be addressed to the Board's Executive Secretary at the address below. The closing period for their receipt is February 22, 2017.

A copy of the notification will be available for public inspection at the Office of the Executive Secretary, Foreign-Trade Zones Board, Room 21013, U.S. Department of Commerce, 1401 Constitution Avenue NW., Washington, DC 20230-0002, and in the “Reading Room” section of the Board's Web site, which is accessible via www.trade.gov/ftz.

For further information, contact Juanita H. Chen at Juanita.Chen@trade.gov or (202) 482-1378.

Dated: January 6, 2017.
Elizabeth Whiteman,
Acting Executive Secretary.

[FR Doc. 2017-00750 Filed 1-12-17; 8:45 am]

BILLING CODE 3510-DS-P